DEPARTMENT OF LABOR

Occupational Safety and Health Administration

[Docket No. OSHA-2007-0041]

FM Approvals LLC: Grant of Expansion of Recognition and Modification to the Nationally Recognized Testing Laboratory (NRTL) Program's List of Appropriate Test Standards

AGENCY: Occupational Safety and Health Administration (OSHA), Labor.

ACTION: Notice.

SUMMARY: In this notice, OSHA announces the final decision to expand the scope of recognition for FM Approvals, LLC (FM), as a NRTL to include twenty six additional test standards. In addition, OSHA announces the addition of four test standards to the NRTL Program's List of Appropriate Test Standards.

DATES: The expansion of the scope of recognition becomes applicable on September 28, 2018.

FOR FURTHER INFORMATION CONTACT: Information regarding this notice is available from the following sources:

Press inquiries: Contact Mr. Frank Meilinger, Director, OSHA Office of Communications, telephone: (202) 693-1999, email: meilinger.francis2@dol.gov.

General and technical information: Contact Mr. Kevin Robinson, Director, Office of Technical Programs and Coordination Activities, Directorate of Technical Support and Emergency Management, Occupational Safety and Health Administration, U.S. Department of Labor; telephone: (202) 693-2110 or email: robinson.kevin@dol.gov. OSHA's web page includes information about the NRTL Program (see http://www.osha.gov/dts/otpca/nrtl/index.html).

SUPPLEMENTARY INFORMATION:

I. Notice of Final Decision

OSHA hereby gives notice of the expansion of the scope of recognition of FM Approvals, LLC, as a NRTL. FM's expansion covers the addition of 24 test standards to its scope of recognition.

OSHA recognition of a NRTL signifies that the organization meets the requirements specified by 29 CFR 1910.7. Recognition is an acknowledgment that the organization can perform independent safety testing and certification of the specific products covered within its scope of recognition and is not a delegation or grant of government authority. As a result of recognition, employers may use products properly approved by the NRTL to meet OSHA standards that require testing and certification of the products.

The agency processes applications by a NRTL for initial recognition, or for expansion or renewal of this recognition, following requirements in Appendix A to 29 CFR 1910.7. This appendix requires that the agency publish two notices in the Federal Register in processing an application. In the first notice, OSHA announces the application and provides a preliminary finding and, in the second notice, the agency provides the final decision on the application. These notices set forth the NRTL's scope of recognition or modifications of that scope. OSHA maintains an informational web page for each NRTL that details its scope of recognition. These pages are available from the agency's website at http://www.osha.gov/dts/otpca/nrtl/index.html.

FM submitted an application, dated July 15, 2016, (OSHA-2007-0041-0008) to expand its recognition to include 28 additional test standards. OSHA staff performed a detailed analysis of the application packet and reviewed other pertinent information. In reviewing the application, OSHA determined that three of the requested standards had been withdrawn by the controlling standards development organization; therefore, OSHA cannot add those three standards to FM's NRTL scope of recognition. Additionally, one of the requested standards, ISA 60079-26, has been superseded by UL 60079-26, which was also included in FM's expansion application. Accordingly, OSHA will add the active standard, not the superseded one, and OSHA will grant recognition to 24 standards in the final expansion. OSHA did not perform any on-site reviews in relation to this application.

OSHA published the preliminary notice announcing FM's expansion application in the Federal Register on May 15, 2018, (83 FR 22523). The agency requested comments by May 30, 2018, but it received no comments in response to this notice. OSHA is now proceeding with this final notice to grant expansion of FM's scope of recognition.

To obtain or review copies of all public documents pertaining to FM's application, go to http://www.regulations.gov or contact the Docket Office, Occupational Safety and Health Administration, U.S. Department of Labor, 200 Constitution Avenue NW, Room N-3653, Washington, DC 20210. Docket No. OSHA-2007-0041 contains all materials in the record concerning FM's recognition.

II. Final Decision and Order

OSHA staff examined FM's expansion application, capability to meet the requirements of the test standards, and other pertinent information. Based on a review of this evidence, OSHA finds that FM meets the requirements of 29 CFR 1910.7 for expansion of recognition, subject to the specified limitation and conditions listed below. OSHA, therefore, is proceeding with this final notice to grant FM's scope of recognition. OSHA limits the expansion of FM's recognition to testing and certification of products for demonstration of conformance to the test standards listed below in Table 1.

Table 1—List of Appropriate Test Standards for Inclusion in FM's NRTL Scope of Recognition
Test standard | Test standard title
UL 50 | Enclosures for Electrical Equipment, Non-Environmental Considerations.
UL 50E | Enclosures for Electrical Equipment, Environmental Considerations.
UL 60079-0 | Explosive Atmospheres—Part 0: Equipment—General Requirements.
ISA 60079-0 | Explosive Atmospheres—Part 0: Equipment—General Requirements.
UL 60079-1 | Standard for Explosive Atmospheres—Part 1: Equipment Protection by Flameproof Enclosures “d”.
ISA 60079-1 | Standard for Explosive Atmospheres—Part 1: Equipment Protection by Flameproof Enclosures “d”.
UL 60079-2 | Standard for Explosive Atmospheres—Part 2: Equipment Protection by Pressurized Enclosure “p”.
UL 60079-5 | Standard for Explosive Atmospheres—Part 5: Equipment Protection by Powder Filling “q”.
UL 60079-6 | Standard for Explosive Atmosphere—Part 6: Equipment Protection by Liquid Immersion “o”.
ISA 60079-6 | Standard for Explosive Atmosphere—Part 6: Equipment Protection by Liquid Immersion “o”.
UL 60079-7 | Standard for Explosive Atmospheres—Part 7: Equipment Protection by Increased Safety “e”.
ISA 60079-7 | Standard for Explosive Atmospheres—Part 7: Equipment Protection by Increased Safety “e”.
UL 60079-11 | Standard for Explosive Atmospheres—Part 11: Equipment Protection by Intrinsic Safety “i”.
ISA 60079-11 | Standard for Explosive Atmospheres—Part 11: Equipment Protection by Intrinsic Safety “i”.
UL 60079-15 | Standard for Explosive Atmospheres—Part 15: Equipment Protection by Type of Protection “n”.
ISA 60079-15 | Standard for Explosive Atmospheres—Part 15: Equipment Protection by Type of Protection “n” (Edition 4).
UL 60079-18 | Standard for Explosive Atmospheres—Part 18: Equipment Protection by Encapsulation “m”.
UL 60079-25 | Standard for Explosive Atmospheres—Part 25: Intrinsically Safe Electrical Systems.
ISA 60079-25 * | Standard for Explosive Atmospheres—Part 25: Intrinsically Safe Electrical Systems.
UL 60079-26 * | Standard for Explosive Atmospheres—Part 26: Equipment with Equipment Protection Level (EPL) Ga.
UL 60079-28 * | Standard for Explosive Atmospheres—Part 28: Protection of Equipment and Transmission Systems Using Optical Radiation.
ISA 60079-28 | Standard for Explosive Atmospheres—Part 28: Protection of Equipment and Transmission Systems Using Optical Radiation, Edition 1.1.
UL 60079-31 * | Standard for Explosive Atmospheres—Part 31: Equipment Dust Ignition Protection by Enclosure “t”.
ISA 60079-31 | Standard for Explosive Atmospheres—Part 31: Equipment Dust Ignition Protection by Enclosure “t”.
* Represents a standard that OSHA proposes to add to the NRTL Program's List of Appropriate Test Standards

In this notice, OSHA also announces the addition of four new test standards to the NRTL Program's List of Appropriate Test Standards. Table 2, below, lists the test standards that are new to the NRTL Program. OSHA has determined that these test standards are appropriate test standards and will include them in the NRTL Program's List of Appropriate Test Standards.

Table 2—Test Standards OSHA Is Adding to the NRTL Program's List of Appropriate Test Standards
Test standard | Test standard title
ISA 60079-25 | Standard for Explosive Atmospheres—Part 25: Intrinsically Safe Electrical Systems.
UL 60079-26 | Standard for Explosive Atmospheres—Part 26: Equipment with Equipment Protection Level (EPL) Ga.
UL 60079-28 | Standard for Explosive Atmospheres—Part 28: Protection of Equipment and Transmission Systems Using Optical Radiation.
UL 60079-31 | Standard for Explosive Atmospheres—Part 31: Equipment Dust Ignition Protection Enclosure “t”.

OSHA's recognition of any NRTL for a particular test standard is limited to equipment or materials for which OSHA standards require third-party testing and certification before using them in the workplace. Consequently, if a test standard also covers any products for which OSHA does not require such testing and certification, a NRTL's scope of recognition does not include these products.

The American National Standards Institute (ANSI) may approve the test standards listed above as American National Standards. However, for convenience, the use of the designation of the standards developing organization for the standard as opposed to the ANSI designation may occur. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, FM must abide by the following conditions of the recognition:

1. FM must inform OSHA as soon as possible, in writing, of any change of ownership, facilities, or key personnel, and of any major change in its operations as a NRTL, and provide details of the change(s);

2. FM must meet all the terms of recognition and comply with all OSHA policies pertaining to this recognition; and

3. FM must continue to meet the requirements for recognition, including all previously published conditions on FM's scope of recognition, in all areas for which it has recognition.

Pursuant to the authority in 29 CFR 1910.7, OSHA hereby expands the scope of recognition of FM, subject to the limitation and conditions specified above.

Authority and Signature

Loren Sweatt, Deputy Assistant Secretary of Labor for Occupational Safety and Health, authorized the preparation of this notice. Accordingly, the Agency is issuing this notice pursuant to 29 U.S.C. 657(g)(2), Secretary of Labor's Order No. 1-2012 (77 FR 3912, Jan. 25, 2012), and 29 CFR 1910.7.

Signed at Washington, DC, on September 24, 2018.
Loren Sweatt,
Deputy Assistant Secretary of Labor for Occupational Safety and Health.

[FR Doc. 2018-21159 Filed 9-27-18; 8:45 am]

BILLING CODE 4510-26-P